DEPARTMENT OF COMMERCE

National Oceanic and Atmospheric Administration

50 CFR Part 224

[Docket No. 141216999-6999-02]

RIN 0648-XD669-X

Endangered and Threatened Wildlife and Plants: Notice of 12-Month Finding on a Petition To List the Gulf of Mexico Bryde's Whale as Endangered Under the Endangered Species Act (ESA); Correction

AGENCY: National Marine Fisheries Service (NMFS), National Oceanic and Atmospheric Administration (NOAA), Commerce.

ACTION: Proposed rule; correction.

SUMMARY: NMFS published in the Federal Register on December 8, 2016, a document proposing to list the Gulf of Mexico Bryde's whale as an endangered species under the Endangered Species Act of 1973 (ESA). This document corrects an error regarding the January 30, 2017, scheduled close date of the public comment period and identifies that comments must be received by February 6, 2017. This document also corrects the reference number used to identify public comments submitted electronically through the Federal eRulemaking portal.

DATES: Comments on the proposed rule published in the Federal Register on December 8, 2016 (81 FR 88639), must be received by February 6, 2017.

ADDRESSES: You may submit comments, information, or data on this document, identified by the code NOAA-NMFS-2014-0157 by any of the following methods:

• Electronic Submissions: Submit all electronic comments via the Federal eRulemaking Portal. Go to www.regulations.gov/#!docketDetail;D=NOAA-NMFS-2014-0157, click the “Comment Now!” icon, complete the required fields, and enter or attach your comments;

• Mail: NMFS, Southeast Regional Office, 263 13th Avenue South, St. Petersburg, FL 33701;

• Hand delivery: You may hand deliver written information to our office during normal business hours at the street address given above.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Laura Engleby or Calusa Horn, NMFS, Southeast Regional Office (727) 824-5312 or Marta Nammack, NMFS, Office of Protected Resources (301) 427-8469.

Correction

The proposed rule that published in the Federal Register on December 8, 2016 (81 FR 88639) contained the wrong closure date for the public comment period. The original language incorrectly stated that the public comment period would close on January 30, 2017. This date does not allow for a 60-day public comment period. Therefore, we are correcting the date and inserting the date of February 6, 2017, allowing for a 60-day public comment period. We are also correcting the Federal Docket Management System reference number associated with this proposed rule so that public comments submitted electronically through www.regulations.gov will be associated correctly with this proposed rule.

In the proposed rule (81 FR 88639) published on December 8, 2016, the DATES and ADDRESSES sections are corrected as set above in this document.

Dated: December 15, 2016.
Samuel D. Rauch, III,
Deputy Assistant Administrator for Regulatory Programs, National Marine Fisheries Service.

[FR Doc. 2016-30659 Filed 12-19-16; 8:45 am]

BILLING CODE 3510-22-P